DEPARTMENT OF AGRICULTURE

Food Safety and Inspection Service

[Docket No. 01-025N]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting, on Friday, October 12, 2001. The purpose of this public meeting is to provide information and receive public comments on agenda items and draft United States positions that will be discussed at the 23rd Session of the Codex Committee on Nutrition and Foods for Special Dietary Uses (CCNFSDU), to be held in Berlin, Germany, November 26-30, 2001. The Under Secretary for Food Safety and FDA recognize the importance of providing interested parties the opportunity to obtain background information on the 23rd Session of CCNFSDU and to address items on the agenda.

DATE: The public meeting is scheduled for Friday, October 12, 2001, from 1:00 p.m. to 4:00 p.m.

ADDRESSES: The public meeting will be held in Room 1409, Federal Building 8, U.S. Food and Drug Administration, 200 C Street, SW., Washington, DC 20204. To receive copies of the documents referenced in this notice, contact the FSIS Docket Room, U.S. Department of Agriculture, Food Safety and Inspection Service, Room 102, Cotton Annex, 300 12th Street, SW., Washington, DC 20250-3700. The documents will also be accessible via the World Wide Web at the following address: http://www.codexalimentarius.net. Submit one original and two copies of written comments to FSIS Docket Room at the address above and reference Docket 01-025N. All comments submitted in response to this notice will be available for public inspection in the FSIS Docket Room between 8:30 a.m. and 4:30 p.m., Monday through Friday.

FOR FURTHER INFORMATION CONTACT: F. Edward Scarbrough Ph.D., U.S. Manager for Codex, U.S. Codex Office, Food Safety and Inspection Service, Room 4861, South Agriculture Building, 1400 Independence Avenue SW., Washington, DC 20250. Telephone (202) 205-7760; Fax: (202) 720-3157. Persons requiring a sign language interpreter or other special accommodations should notify Dr. Scarbrough at the above number.

SUPPLEMENTARY INFORMATION:

Background

The Codex Alimentarius Commission was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The CCNFSDU was established to study specific nutritional problems assigned to it by the Commission and advise the Commission on general nutritional issues; to draft general provisions as appropriate, concerning the nutritional aspects of all foods; to develop standards, guidelines or related texts for foods for special dietary uses, in cooperation with other committees when necessary; and to consider, amend if necessary, and endorse provisions on nutritional aspects proposed for inclusion in Codex standards, guidelines and related texts. The committee is hosted by the Federal Republic of Germany.

Issues to be Discussed at the Public Meeting

The following items will be on the Agenda for the 23rd Session of the Committee and will be discussed at this meeting. Documents related to these items will be issued from Codex in Rome and will be available prior to the meeting.

• Guidelines for Use of Nutrition Claims: Draft Table of Conditions for Nutrient Contents: Dietary Fibre

• Draft Revised Standard for Gluten-Free Foods

• Proposed Draft Revised Standard for Processed Cereal-Based Foods for Infants and Young Children

• Proposed Draft Revised Standard for Infant Formula

• Proposed Draft Guidelines for Vitamin and Mineral Supplements

• Proposed Draft Revision of the Advisory List(s) of Mineral Salts and Vitamin Compounds for the Use in Foods for Infants and Young Children (CAC/GL 10-1979)

• Discussion Paper on Review of Provisions for Vitamins and Minerals in Codex Standards: Vitamins and Minerals in Foods for Special Medical Uses

• Discussion Paper on Energy Conversion Factors

• Discussion Paper on Recommendations of the FAO/WHO Expert Consultation on Food Consumption and Exposure Assessment of Chemicals

• Sports and Energy Drinks

Public Meeting

At the October 12th public meeting, the issues and draft United States positions on the issues will be described, discussed, and attendees will have the opportunity to pose questions and offer comments. Comments may be sent to the FSIS Docket Room (see ADDRESSES). Please state that your comments relate to CCNFSDU activities and specify which issues your comments address.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: August 16, 2001.
F. Edward Scarbrough,
U.S. Manager for Codex Alimentarius.

[FR Doc. 01-21042 Filed 8-20-01; 8:45 am]

BILLING CODE 3410-DM-P